DEPARTMENT OF HEALTH AND HUMAN SERVICES

National Institutes of Health

National Institute of Environmental Health Sciences; Cancellation of Meeting

Notice is hereby given of the cancellation of the National Institute of Environmental Health Sciences Special Emphasis Panel, Draft NTP Developmental and Reproductive Toxicity Technical Report on 2-Hydroxy-4-Methoxybenzophenone, December 1, 2025, 10:00 a.m. to December 1, 2025, 2:00 p.m., National Institute of Environmental Health Sciences, 111 T.W. Alexander Drive, Research Triangle Park, NC 27709 which was published in the Federal Register on September 23, 2025, 90 FRN 45781.

Dated: November 19, 2025.
Denise M. Santeufemio,
Supervisory Program Analyst, Office of Federal Advisory Committee Policy.

[FR Doc. 2025-20755 Filed 11-21-25; 8:45 am]

BILLING CODE 4140-01-P